SMALL BUSINESS ADMINISTRATION

[Declaration of Disaster #3632]

Commonwealth of Pennsylvania; Amendment #5

In accordance with a notice received from the Department of Homeland Security—Federal Emergency Management Agency-effective November 18, 2004, the above numbered declaration is hereby amended to extend the deadline for filing applications for physical damages as a result of this disaster to December 18, 2004.

All other information remains the same, i.e., the deadline for filing applications for economic injury is June 20, 2005.

(Catalog of Federal Domestic Assistance Program Nos. 59002 and 59008.)

Dated: November 19, 2004.
Allan I. Hoberman,
Acting Associate Administrator for Disaster Assistance.

[FR Doc. 04-26570 Filed 12-1-04; 8:45 am]

BILLING CODE 8025-01-P